Title 3—

The President

Proclamation 8344 of February 2, 2009

American Heart Month, 2009

By the President of the United States of America

A Proclamation

Together, we can turn the tide on the number one killer of American women and men. Heart disease claims more lives each year than all forms of cancer combined. During American Heart Month, we renew our commitment to promoting heart disease awareness. It is never too late to start protecting heart health.

Certain risk factors can lead to heart disease. These include: high blood pressure, high cholesterol, obesity, physical inactivity, smoking, and diabetes. Practicing the following “Big Four” habits can help mitigate these risks: eating a heart healthy diet, getting regular physical activity, maintaining a healthy weight, and avoiding tobacco. Unfortunately, only 3 percent of U.S. adults practice all of these habits. As a Nation, we must work to increase that number.

Forming these healthy habits does not have to be difficult: Setting realistic goals, making gradual improvements, and inviting family and friends to join in this pursuit can lead to a healthier lifestyle. Above all, we must remember that taking action can mean a longer, healthier, and more enjoyable life.

Michelle and I especially encourage women to take heart health seriously. More women than men die of heart disease each year, and many women fail to make the connection between risk factors and their personal risk of developing heart disease. The Federal Government’s The Heart Truth campaign gives women a personal and urgent wake-up call about their risk for heart disease. On the first Friday in February, The Heart Truth will lead the Nation in celebrating National Wear Red Day to promote heart disease awareness. All Americans are encouraged to wear red or the Red Dress Pin—the national symbol for women and heart disease awareness—to show support for adopting the Big Four heart health lifestyle habits. This year on National Wear Red Day, we urge all Americans to practice the “Big Four” healthy habits for reducing heart disease risk.

During American Heart Month, we also honor the health professionals, researchers, and other heart health ambassadors whose efforts help all Americans lead longer and healthier lives.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2009 as American Heart Month, and I invite all Americans to participate in National Wear Red Day on February 6, 2009. I also invite the Governors of the States, the Commonwealth of Puerto Rico, officials of other areas subject to the jurisdiction of the United States, and the American people to join me in recognizing and reaffirming our commitment to fighting cardiovascular disease.

IN WITNESS WHEREOF, I have hereunto set my hand this second day of February, in the year of our Lord two thousand nine, and of the Independence of the United States of America the two hundred and thirty-third.

[FR Doc. E9-2705

Filed 2-5-09; 11:15 am]

Billing code 3195-W9-P